DEPARTMENT OF ENERGY

Notice of Orders Issued under Section 3 of the Natural Gas Act During April 2020

AGENCY: Office of Fossil Energy, Department of Energy.

ACTION: Notice of orders.

| FE Docket Nos.
JM & RAL Energy Inc | 20-30-NG; 18-102-NG.
Cheniere Marketing, LLC and Corpus Christi Liquefaction, LLC | 19-124-LNG.
Sabine Pass Liquefaction, LLC | 19-125-LNG.
Commonwealth Lng, LLC | 19-134-LNG.
West Texas Gas, Inc | 20-32-NG.
Sacramento Municipal Utility District | 20-34-NG.
Brookfield Renewable Trading and Marketing LP | 20-22-NG.
S.D. Sunnyland Enterprises, Inc | 20-35-LNG.
New York State Electric & Gas Corporation | 20-36-NG.
Esco del Noroeste LLC | 20-39-NG.
IGI Resources Inc | 20-38-NG.
Pilot Power Group, LLC | 20-37-NG; 19-15-NG.

SUMMARY: The Office of Fossil Energy (FE) of the Department of Energy gives notice that during April 2020, it issued orders granting authority to import and export natural gas, to import and export liquefied natural gas (LNG), and to vacate prior authorization. These orders are summarized in the attached appendix and may be found on the FE website at https://www.energy.gov/fe/listing-doefe-authorizationsorders-issued-2020. They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9387. The Docket Room is open between the hours of 8:00 a.m. and 4:30 p.m., Monday through Friday, except Federal holidays.

Signed in Washington, DC, on June 12, 2020.
Amy Sweeney,
Director, Office of Regulation, Analysis, and Engagement Office of Oil and Natural Gas.

Appendix

DOE/FE Orders Granting Import/Export Authorizations
4523; 4237-A | 04/07/20 | 20-30-NG; 18-102-NG | JM & RAL Energy Inc | Order 4523 granting blanket authority to export natural gas to Mexico, and vacating prior authorization (Order 4237-A).
4519 | 04/14/20 | 19-124-LNG | Cheniere Marketing, LLC and Corpus Christi Liquefaction, LLC | Order 4519 granting long-term authority to export LNG to Free Trade Agreement Nations.
4520 | 04/14/20 | 19-125-LNG | Sabine Pass Liquefaction, LLC | Order 4520 granting long-term authority to export LNG to Free Trade Agreement Nations.
4521 | 04/17/20 | 19-134-LNG | Commonwealth LNG, LLC | Order 4521 granting long-term authority to export LNG to Free Trade Agreement Nations.
4524 | 04/20/20 | 20-32-NG | West Texas Gas, Inc | Order 4524 granting blanket authority to export natural gas to Mexico.
4525 | 04/20/20 | 20-34-NG | Sacramento Municipal Utility District | Order 4525 granting blanket authority to import natural gas from Canada.
4526 | 04/22/20 | 20-22-NG | Brookfield Renewable Trading and Marketing LP | Order 4426 granting blanket authority to import/export natural gas from/to Canada.
4527 | 04/22/20 | 20-35-LNG | S.D. Sunnyland Enterprises, Inc | Order 4527 granting blanket authority to import LNG from various international sources by vessel, and to export LNG to Canada.
4528 | 04/22/20 | 20-36-NG | New York State Electric & Gas Corp | Order 4528 granting blanket authority to import/export natural gas from/to Canada.
4529 | 04/23/20 | 20-39-NG | Esco del Noroeste LLC | Order 4529 granting blanket authority to export natural gas to Mexico.
4530 | 04/27/20 | 20-38-NG | IGI Resources, Inc | Order 4530 granting blanket authority to import/export natural gas from/to Canada.
4531; 4351-A | 04/27/20 | 20-37-NG; 19-15-NG | Pilot Power Group, LLC | Order 4531 granting blanket authority to import/export natural gas from/to Canada, and vacating prior authorization (Order 4351-A).

[FR Doc. 2020-13040 Filed 6-16-20; 8:45 am]

BILLING CODE 6450-01-P